SOCIAL SECURITY ADMINISTRATION

Agency Information Collection Activities: Proposed Request

The Social Security Administration (SSA) publishes a list of information collection packages requiring clearance by the Office of Management and Budget (OMB) in compliance with Public Law (Pub. L.) 104-13, the Paperwork Reduction Act of 1995, effective October 1, 1995. This notice includes revisions to existing OMB-approved information collections.

SSA is soliciting comments on the accuracy of the agency's burden estimate; the need for the information; its practical utility; ways to enhance its quality, utility, and clarity; and ways to minimize the burden on respondents, including the use of automated collection techniques or other forms of information technology. Mail, e-mail, or fax your comments and recommendations on the information collection(s) to the OMB Desk Officer and the SSA Reports Clearance Officer to the addresses or fax numbers listed below.

(OMB), Office of Management and Budget, Attn: Desk Officer for SSA, Fax: 202-395-6974, E-mail address: OIRA_Submission@omb.eop.gov.

(SSA), Social Security Administration, DCBFM, Attn: Reports Clearance Officer, 1333 Annex Building, 6401 Security Blvd., Baltimore, MD 21235, Fax: 410-965-6400, E-mail address: OPLM.RCO@ssa.gov.

The information collections below are pending at SSA. SSA will submit them to OMB within 60 days from the date of this notice. Therefore, your comments would be most helpful if you submit them to SSA within 60 days from the date of this publication. Individuals can obtain copies of these collection instruments by calling the SSA Reports Clearance Officer at 410-965-0454 or by writing to the e-mail address listed above.

1. Application for EXTRA Help with Medicare Prescription Drug Plan Costs—20 CFR 418.3101—0960-0696. The Medicare Modernization Act of 2003 mandated the creation of the Medicare Part D prescription drug coverage program and provided for certain subsidies for eligible Medicare beneficiaries to help pay for the costs of prescription drugs. SSA uses Form SSA-1020 (and the i1020, its electronic counterpart), the Application for Extra Help with Medicare Prescription Drug Plan Costs, to collect information to make Part D subsidy eligibility determinations.

In compliance with Public Law 110-275, beginning in January 2010, SSA will use a new version of Form SSA-1020. In this new version, SSA will eliminate questions about the value of life insurance policies and in-kind support and maintenance, and we will ask applicants about their interest in applying for the Medicare Savings Program. This information collection request (ICR) is for the new version we will use in 2010. The respondents are Medicare beneficiaries who are applying for the Medicare Part D subsidy.

Form type | Number of respondents | Frequency of response | Average burden per response (minutes) | Estimated annual burden (hours)
SSA-1020 (paper application form) | 560,000 | 1 | 30 | 280,000
i1020 (online application) | 240,000 | 1 | 25 | 100,000
Field office interview | 200,000 | 1 | 30 | 100,000
Totals | 1,000,000 |  |  | 480,000

2. Medicare Subsidy Quality Review Forms—20 CFR 418(b)(5)—0960-0707. The Medicare Modernization Act of 2003 mandated the creation of the Medicare Part D prescription drug coverage program and provided for certain subsidies for eligible Medicare beneficiaries to help pay for the costs of prescription drugs. As part of its stewardship duties of the Medicare Part D subsidy program, SSA must conduct periodic quality review checks of the information Medicare beneficiaries report on their subsidy applications (Form SSA-1020). SSA uses the Medicare Quality Review program to conduct these checks.

Beginning in January 2010, SSA will revise the Medicare Quality Review system to comply with Public Law 110-275. Specifically, we will: (1) Eliminate the use of Form SSA-9309, the Life Insurance Verification form; and (2) remove any questions about life insurance policy values and in-kind support and maintenance from the other forms in the collection. This ICR is for the revised Medicare Quality Review System, which we will not use until January 2010. The respondents are applicants for the Medicare Part D subsidy whom we have chosen to undergo a Quality Review.

Form No. and name | Number of respondents | Frequency of response | Average burden per response (minutes) | Estimated annual burden (hours)
SSA-9301 (Medicare Subsidy Quality Review Case Analysis Questionnaire) | 5,000 | 1 | 30 | 2,500
SSA-9302 (Notice of Quality Review Acknowledgement Form for those with Phones) | 5,000 | 1 | 15 | 1,250
SSA-9303 (Notice of Quality Review Acknowledgement Form for those without Phones) | 500 | 1 | 15 | 125
SSA-9304 (Checklist of Required Information; burden accounted for with forms SSA-9302, SSA-9303, SSA-9311, SSA-9314) |  |  |
SSA-9308 (Request for Information) | 10,000 | 1 | 15 | 2,500
SSA-9310 (Request for Documents) | 5,000 | 1 | 5 | 417
SSA-9311 (Notice of Appointment—Denial—Reviewer Will Call) | 450 | 1 | 15 | 113
SSA-9312 (Notice of Appointment—Denial—Please Call Reviewer) | 50 | 1 | 15 | 13
SSA-8510 (Authorization to the Social Security Administration to Obtain Personal Information) | 5,000 | 1 | 5 | 417
SSA-9313 (Notice of Quality Review Acknowledgement Form for those with Phones) | 2,500 | 1 | 15 | 625
SSA-9314 (Notice of Quality Review Acknowledgement Form for those without Phones) | 500 | 1 | 15 | 125
Totals | 34,000 |  |  | 8,085

3. Redetermination of Eligibility for Help with Medicare Prescription Drug Plan Costs—0960-0723. As required by the Medicare Modernization Act of 2003 (Pub. L. 108-173), SSA conducts low-income subsidy eligibility redeterminations for Medicare beneficiaries who filed for the subsidy and were determined by SSA to be eligible. SSA will conduct subsidy eligibility redeterminations under two circumstances: (1) When an individual completes Form SSA-1026-OCR-SM-SCE to report a subsidy changing event (marriage, separation from a spouse, separated spouses resume living together, divorce, annulment, or death); and (2) when SSA uses Form SSA-1026-OCR-SM-REDE to conduct an annual review of individuals who became entitled during the prior 12 months, an annual review of a percentage of individuals who are eligible for more than 12 months, and a review of individuals who report a change in income, resources, or household size that may affect the subsidy amount.

In compliance with Public Law 110-275, SSA will use a new version of Form SSA-1026 beginning in January 2010. In this new version, SSA will eliminate questions about the value of life insurance policies and in-kind support and maintenance. The respondents are current recipients of the Medicare Part D low-income subsidy who will undergo an eligibility redetermination for one of the reasons mentioned above.

Form | Number of respondents | Frequency of response (per year) | Average burden per response (in minutes) | Estimated annual burden (in hours)
SSA-1026-OCR-SM-SCE | 11,984 | 1 | 18 | 3,595
SSA-1026-OCR-SM-REDE or SSA-1026-B | 249,652 | 1 | 18 | 74,896
Total | 261,636 |  |  | 78,491

Dated: October 22, 2008.
Elizabeth A. Davidson,
Reports Clearance Officer, Social Security Administration.

[FR Doc. E8-25691 Filed 10-27-08; 8:45 am]

BILLING CODE 4191-02-P